FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 29, 2016.

A. Federal Reserve Bank of Atlanta (Chapelle Davis, Assistant Vice President) 1000 Peachtree Street NE., Atlanta, Georgia 30309. Comments can also be sent electronically to Applications.Comments@atl.frb.org:

1. James E. Mulkin, James E. Mulkin, Jr., Joel W. Mulkin, Frances D. Mulkin, Jonathan P. Mulkin, and Joan H. Mulkin, all of Bessemer, Alabama; to acquire an additional 2.74 percent of the outstanding shares of FirstFed Bancorp, Inc., and thereby indirectly acquire shares of First Financial Bank, both in Bessemer, Alabama.

Board of Governors of the Federal Reserve System, June 9, 2016.
Margaret M. Shanks,
Deputy Secretary of the Board.

[FR Doc. 2016-14089 Filed 6-14-16; 8:45 am]

BILLING CODE 6210-01-P